DEPARTMENT OF COMMERCE

International Trade Administration

[A-552-801]

Certain Frozen Fish Fillets From the Socialist Republic of Vietnam: Final Results, and Final Results of No Shipments of the Antidumping Duty Administrative Review; 2016-2017

AGENCY: Enforcement and Compliance, International Trade Administration, Department of Commerce.

SUMMARY: The Department of Commerce (Commerce) determines that certain frozen fish fillets (fish fillets) from the Socialist Republic of Vietnam (Vietnam) are being, or are likely to be, sold in the United States at less than normal value during the period of review (POR) August 1, 2016, through July 31, 2017.

DATES: Applicable April 29, 2019.

FOR FURTHER INFORMATION CONTACT: Javier Barrientos, AD/CVD Operations, Office V, Enforcement and Compliance, International Trade Administration, U.S. Department of Commerce, 1401 Constitution Avenue NW, Washington, DC 20230; telephone 202-482-2243.

SUPPLEMENTARY INFORMATION:

Background

Commerce published the Preliminary Results on September 13, 2018.¹ On January 28, 2019, Commerce tolled the deadlines in this case and the final results by 40 days.² On February 14, 2019, Commerce extended the deadline for the final results to April 19, 2019.³ Commerce conducted verification of the Hung Vuong Group ⁴ (HVG) from March 11, 2019 through March 20, 2019. Between March 13, 2019, and April 9, 2019, interested parties submitted case and rebuttal briefs.

¹ See Certain Frozen Fish Fillets from the Socialist Republic of Vietnam: Preliminary Results of the Antidumping Duty Administrative Review, Preliminary Determination of No Shipments and Partial Rescission of the Antidumping Duty Administrative Review; 2016-2017, 83 FR 46479 (September 13, 2018) (Preliminary Results) and accompanying Preliminary Decision Memorandum (PDM).

² See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

³ See Certain Frozen Fish Fillets from the Socialist Republic of Vietnam: Extension of Deadline for Final Results of 2016-2017 Antidumping Duty Administrative Review, dated February 14, 2019.

⁴ The Hung Vuong Group, or “HVG,” includes: An Giang Fisheries Import & Export Joint Stock Company (Agifish), Asia Pangasius Company Limited, Europe Joint Stock Company, Hung Vuong Joint Stock Company, Hung Vuong Mascato Company Limited, Hung Vuong—Vinh Long Co., Ltd., and Hung Vuong—Sa Dec Co., Ltd. See Certain Frozen Fish Fillets from the Socialist Republic of Vietnam: Final Results of the Antidumping Duty Administrative Review and New Shipper Review; 2011-2012, 79 FR 19053 (April 7, 2014) and accompanying Issues and Decision Memorandum (IDM) at 3.

Scope of the Order

The product covered by the order is frozen fish fillets, including regular, shank, and strip fillets and portions thereof, whether or not breaded or marinated, of the species Pangasius Bocourti, Pangasius Hypophthalmus (also known as Pangasius Pangasius) and Pangasius Micronemus. These products are classifiable under tariff article code 0304.62.0020 (Frozen Fish Fillets of the species Pangasius, including basa and tra), and may enter under tariff article codes 0305.59.0000, 1604.19.2100, 1604.19.3100, 1604.19.4100, 1604.19.5100, 1604.19.6100 and 1604.19.8100 of the Harmonized Tariff Schedule of the United States (HTSUS).⁵ Although the HTSUS subheadings are provided for convenience and customs purposes, the written description of the scope of the order is dispositive.⁶

⁵ Until June 30, 2004, these products were classifiable under HTSUS 0304.20.6030, 0304.20.6096, 0304.20.6043 and 0304.20.6057. From July 1, 2004, until December 31, 2006, these products were classifiable under HTSUS 0304.20.6033. From January 1, 2007, until December 31, 2011, these products were classifiable under HTSUS 0304.29.6033. On March 2, 2011, Commerce added two HTSUS numbers at the request of U.S. Customs and Border Protection (CBP) that the subject merchandise may enter under: 1604.19.2000 and 1604 19.3000, which were changed to 1604.19.2100 and 1604.19.3100 on January 1, 2012. On January 1, 2012, Commerce added the following HTSUS numbers at the request of CBP: 0304.62.0020, 0305.59.0000, 1604.19.4100, 1604.19.5100, 1604.19.6100 and 1604.19.8100.

⁶ For a complete description of the scope of the order, see Certain Frozen Fish Fillets from the Socialist Republic of Vietnam: Issues and Decision Memorandum for the Final Results of the Thirteenth Antidumping Duty. Administrative Review; 2016-2017 (Issues and Decision Memorandum) at 2-3, dated concurrently with and hereby adopted by this notice.

Analysis of Comments Received

All issues raised in the case and rebuttal briefs by parties in this review are addressed in the Issues and Decision Memorandum. A list of the issues which parties raised is attached as the Appendix to this notice. The Issues and Decision Memorandum is a public document and is on file in the Central Records Unit (CRU), Room B8024 of the main Department of Commerce building, as well as electronically via Enforcement and Compliance's Antidumping and Countervailing Duty Centralized Electronic Service System (ACCESS). ACCESS is available to registered users at http://access.trade.gov and in the CRU. In addition, a complete version of the Issues and Decision Memorandum can be accessed directly on the internet at http://enforcement.trade.gov/frn/index.html. The signed Issues and Decision Memorandum and the electronic version of the Issues and Decision Memorandum are identical in content.

Changes Since the Preliminary Results

Based on a review of the record and comments received from interested parties regarding our Preliminary Results, and for the reasons explained in the Issues and Decision Memorandum, we have determined to apply facts available with an adverse inference in determining the rate for HVG.

Final Determination of No Shipments

In the Preliminary Results, Commerce preliminarily determined that Cadovimex II Seafood Import Export and Processing Joint Stock Company (Cadovimex II), Cantho Import-Export Seafood Joint Stock Company (CASEAMEX), and Godaco Seafood Joint Stock Company (GODACO) (collectively, No Shipment Companies), had no shipments during the POR. Consistent with Commerce's refinement to its assessment practice in non-market economy (NME) cases, we completed the review with respect to the above-named companies.⁷ Based on the certifications submitted by these companies, we continue to find that they did not have any shipments during the POR. As noted in the “Assessment Rates” section below, Commerce intends to issue appropriate instructions to CBP for the above-named companies based on the final results of the review.

⁷ See Non-Market Economy Antidumping Proceedings: Assessment of Antidumping Duties, 76 FR 65694, 65694-95 (October 24, 2011).

Vietnam-Wide Entity

A review was requested, but not rescinded, for Golden Quality Seafood Corporation (Golden Quality). Golden Quality failed to answer Commerce's antidumping duty questionnaire and is not eligible for separate rate status; thus, we find Golden Quality to be part of the Vietnam-wide entity, which is not under review in this POR.⁸ As Golden Quality is part of the Vietnam-wide entity, it will receive the Vietnam-wide entity's antidumping duty margin of $2.39 per-kilogram (kg).

⁸ See Issues and Decision Memorandum at Comment 9.

Final Results of the Review

The weighted-average dumping margins for the final results of this administrative review are as follows:

Exporter | Weighted- average margin ($/kg) ⁹
Hung Vuong Group | 3.87
NTSF Seafoods Joint Stock Company | 1.37
C.P. Vietnam Corporation* | 1.37
Cuu Long Fish Joint Stock Company* | 1.37
Green Farms Seafood Joint Stock Company* | 1.37
Vinh Quang Fisheries Corporation* | 1.37
* These companies are separate rate respondents not individually examined.

Assessment Rates

Pursuant to section 751(a)(2)(A) of the Tariff Act of 1930, as amended (the Act) and 19 CFR 351.212(b), Commerce will determine, and CBP shall assess, antidumping duties on all appropriate entries of subject merchandise in accordance with the final results of this review. Commerce intends to issue appropriate assessment instructions directly to CBP 15 days after publication of the final results of this administrative ⁹review.

⁹ In the third administrative review of this order, the Department determined that it would calculate per-unit assessment and cash deposit rates for all future reviews. See Certain Frozen Fish Fillets from the Socialist Republic of Vietnam: Final Results of Antidumping Duty Administrative Review and Partial Rescission, 73 FR 15479 (March 24, 2008).

For assessment purposes, we calculated importer (or customer)-specific assessment rates for merchandise subject to this review. We will continue to direct CBP to assess importer-specific assessment rates based on the resulting per-unit (i.e., per-kg) rates by the weight in kg of each entry of the subject merchandise during the POR. Specifically, we calculated importer-specific duty assessment rates on a per-unit rate basis by dividing the total dumping margins (calculated as the difference between normal value and export price, or constructed export price) for each importer by the total sales quantity of subject merchandise sold to that importer during the POR. If an importer (or customer)-specific assessment rate is de minimis (i.e., less than 0.50 percent), Commerce will instruct CBP to assess that importer (or customer's) entries of subject merchandise without regard to antidumping duties, in accordance with 19 CFR 351.106(c)(2).

Commerce determines that the No Shipment Companies did not have any reviewable transactions during the POR. As a result, any suspended entries that entered under these exporters' case numbers (i.e., at each exporter's rate) will be liquidated at the Vietnam-wide rate.¹⁰

¹⁰ See Non-Market Economy Antidumping Proceedings: Assessment of Antidumping Duties, 76 FR 65694 (October 24, 2011); see also Preliminary Results, and accompanying PDM at 4-5.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of review (except, if the rate is zero or de minimis, i.e., less than 0.50 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnam-wide rate of $2.39 per-kg; and (4) for all non-Vietnamese exporters of subject merchandise which have not received their own rate, the cash deposit rate will be the rate applicable to the Vietnamese exporters that supplied that non-Vietnamese exporter. The deposit requirements, when imposed, shall remain in effect until further notice.

Notification to Importers Regarding the Reimbursement of Duties

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing and publishing these administrative reviews and notice in accordance with sections 751(a)(l) and 777(i) of the Act and 19 CFR 351.221(b)(5).

Dated: April 19, 2019.
Jeffrey I. Kessler,
Assistant Secretary for Enforcement and Compliance.

Appendix

List of Topics Discussed in the Final Decision Memorandum

I. Summary

II. Case Issues

III. Background

IV. Scope of the Order

V. Application of Adverse Facts Available

VI. Separate Rates

VII. Discussion of the Issues

Comment 1: Assignment of AFA Rate to HVG

Comment 2: Whether to Apply AFA to NTSF

Comment 3: NTSF's Plastic Bags Packing Factor

Comment 4: Fingerling Surrogate Value Conversion Factor

Comment 5: Fingerling Inflator

Comment 6: Surrogate Financial Ratios

Comment 7: Rate To Apply to Companies Not Selected for Individual Review

Comment 8: Green Farms' Separate Rate Certification

Comment 9: Golden Quality's Separate Rate Status

Comment 10: Surrogate Values to Value HVG's FOPs

Comment 11: Treatment of Fish Oil and Fish Meal

VIII. Recommendation

[FR Doc. 2019-08576 Filed 4-26-19; 8:45 am]

BILLING CODE 3510-DS-P